DEPARTMENT OF STATE

[Public Notice:11021]

Notice of Determinations; Additional Culturally Significant Object Imported for Exhibition—Determinations: “Lucian Freud: The Self Portraits” Exhibition

SUMMARY: On January 21, 2020, notice was published on page 3468 of the Federal Register (volume 85, number 13) of determinations pertaining to certain objects to be included in an exhibition entitled “Lucian Freud: The Self Portraits.” Notice is hereby given of the following determinations: I hereby determine that a certain additional object to be included in the exhibition “Lucian Freud: The Self Portraits,” imported from abroad for temporary exhibition within the United States, is of cultural significance. The additional object is imported pursuant to a loan agreement with the foreign owner or custodian. I also determine that the exhibition or display of the additional exhibit object at the Museum of Fine Arts, Boston, Massachusetts, from on or about March 1, 2020, until on or about May 25, 2020, and at possible additional exhibitions or venues yet to be determined, is in the national interest. I have ordered that Public Notice of these determinations be published in the Federal Register.

FOR FURTHER INFORMATION CONTACT: Chi D. Tran, Paralegal Specialist, Office of the Legal Adviser, U.S. Department of State (telephone: 202-632-6471; email: section2459@state.gov). The mailing address is U.S. Department of State, L/PD, SA-5, Suite 5H03, Washington, DC 20522-0505.

SUPPLEMENTARY INFORMATION: The foregoing determinations were made pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000.

Matthew R. Lussenhop,
Principal Deputy Assistant Secretary, Bureau of Educational and Cultural Affairs, Department of State.

[FR Doc. 2020-02125 Filed 1-31-20; 8:45 am]

BILLING CODE 4710-05-P